DEPARTMENT OF HEALTH AND HUMAN SERVICES

Centers for Disease Control and Prevention

[Docket No. CDC-2020-0116]

Advisory Council for the Elimination of Tuberculosis Meeting (ACET)

AGENCY: Centers for Disease Control and Prevention (CDC), Department of Health and Human Services (HHS).

ACTION: Notice of meeting and request for comment.

SUMMARY: In accordance with the Federal Advisory Committee Act, the Centers for Disease Control and Prevention (CDC), announces the following meeting of Advisory Council for the Elimination of Tuberculosis (ACET). This meeting is open to the public, limited only by audio and web conference lines (1,000 audio and web conference lines are available). The public may join by accessing the meeting information below. Time will be available for oral public comment.

DATES: The meeting will be held on December 8, 2020 from 10:00 a.m. to 4:00 p.m., EST, and December 9, 2020 from 10:00 a.m. to 12:00 p.m., EST.

Written comments must be received on or before December 6, 2020, EST.

ADDRESSES: You may submit comments, identified by Docket No. CDC-2020-0116 by either of the following methods. CDC does not accept comment by email.

• Federal eRulemaking Portal: https://www.regulations.gov. Follow the instructions for submitting comments.

• Mail: Staci Morris, CDC, 1600 Clifton Road NE, Mailstop US8-6, Atlanta, Georgia 30329-4027, Attn: ACET Meeting.

Instructions: All submissions received must include the Agency name and Docket Number. All relevant comments received in conformance with the https://www.regulations.gov suitability policy will be posted without change to https://www.regulations.gov, including any personal information provided. For access to the docket to read background documents or comments received, go to https://www.regulations.gov. Written public comments submitted by December 6, 2020, EST will be included in the official record of the meeting.

Meeting information: The teleconference access is noted as follows. Please note the access information is different for each meeting date.

December 8, 2020, 10:00 a.m.-4:00 p.m., EST (US and Canada)

Please click the link below to join the webinar: https://cdc.zoomgov.com/j/1610532751?pwd=TUlQRElrdXI5QVMzdjJGSzN6eXluUT09.

Passcode: A6d&BRMn.

Or iPhone one-tap: US: +16692545252,,1610532751#,,,,,,0#,,38868739# or +16468287666,,1610532751#,,,,,,0#,,38868739#.

Or Telephone: Dial (for higher quality, dial a number based on your current location): US: +1 669 254 5252 or +1 646 828 7666.

Webinar ID: 161 053 2751.

Passcode: 38868739.

International numbers available: https://cdc.zoomgov.com/u/abU0Q7Xcvi.

Or an H.323/SIP room system: H.323: 161.199.138.10 (US West) or 161.199.136.10 (US East).

Meeting ID: 161 053 2751.

Passcode: 38868739.

SIP: 1610532751@sip.zoomgov.com.

Passcode: 38868739.

December 9, 2020, 10:00 a.m.-12:00 p.m., EST (US and Canada)

Please click the link below to join the webinar: https://cdc.zoomgov.com/j/1601429901?pwd=M1dtb1dtVkFYUitrYXFvM0hodk1mUT09.

Passcode: 8TS16+u$.

Or iPhone one-tap: US: +16692545252,,1601429901#,,,,,,0#,,46612157 or +16468287666,,1601429901#,,,,,,0#,,46612157#.

Or Telephone: Dial (for higher quality, dial a number based on your current location): US: +1 669 254 5252 or +1 646 828 7666.

Webinar ID: 160 142 9901.

Passcode: 46612157.

International numbers available: https://cdc.zoomgov.com/u/abqzxBE5mL.

Or an H.323/SIP room system: H.323: 161.199.138.10 (US West) or 161.199.136.10 (US East).

Meeting ID: 160 142 9901.

Passcode: 46612157.

SIP: 1601429901@sip.zoomgov.com.

Passcode: 46612157.

FOR FURTHER INFORMATION CONTACT: Staci Morris, Committee Management Specialist, CDC, 1600 Clifton Road, NE, Mailstop US8-6, Atlanta, Georgia 30329-4027; Telephone: 404-718-7479; Email: SMorris4@cdc.gov.

SUPPLEMENTARY INFORMATION: Purpose: This Council advises and makes recommendations to the Secretary of Health and Human Services, the Assistant Secretary for Health, and the Director, CDC, regarding the elimination of tuberculosis (TB). Specifically, the Council makes recommendations regarding policies, strategies, objectives, and priorities; addresses the development and application of new technologies; and reviews the extent to which progress has been made toward eliminating tuberculosis.

Public Participation

Interested persons or organizations are invited to participate by submitting written views, recommendations, and data. Comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. CDC will carefully consider all comments submitted into the docket. CDC does not accept comment by email.

Procedure for Public Comment: Time will be available for public comment. Persons who desire to make an oral statement, may request it at the time of the public comment period on December 9, 2020 at 11:55 a.m., EST.

Written Public Comment: The public is welcome to submit written comments in advance of the meeting. Comments should be submitted in writing according to the instructions provided. The deadline for receipt of written public comment is December 6, 2020, EST. All requests must contain the name, address, and organizational affiliation of the speaker, as well as the topic being addressed. Written comments received in advance of the meeting will be included in the official record of the meeting.

Matters to be Considered: The agenda will include discussions and updates on: (1) TBTC Study 31: Rifapentine-containing Tuberculosis Treatment Shortening Regimens; (2) Latent Tuberculosis Infection (LTBI) Community Engagement; (3) Bedaquiline + Pretomanid + Linezolid (BPal) Clinical Guidance; (4) Nitrosamine Impurities in Rifamycins; and (5) Electronic Directly Observed Therapy (eDOT). Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-24505 Filed 11-4-20; 8:45 am]

BILLING CODE 4163-18-P